DEPARTMENT OF HOUSING AND URBAN DEVELOPMENT

[Docket No. FR-5415-FA-23]

Announcement of Funding Awards for Fiscal Year 2010 Transformation Initiative: Homeless Families Demonstration Small Grant Research Program

AGENCY: Office of the Assistant Secretary for Policy Development, HUD.

ACTION: Announcement of Funding Awards.

SUMMARY: In accord with Section 102(a)(4)(C) of the Department of Housing and Urban Development (HUD) Reform Act of 1989, this document notifies the public of funding awards under competition FR-5415-N-23A for the Office of Policy Development and Research (PD&R) of the Department of Housing and Urban Development (HUD) grants to support small research projects that enhance or complement the contractual study HUD is supporting called The Impact of Various Housing and Service Interventions on Homeless Families. The purpose of this document is to announce the names and addresses of the award winners and the amount of awards.

FOR FURTHER INFORMATION CONTACT: Elizabeth Rudd, Program Evaluation Division, U.S. Department of Housing and Urban Development, Room 8120, 451 7th St., SW., Washington, DC 20410, Phone (202) 402-7607. To provide service for persons who are hearing- or speech-impaired, this number may be reached via TTY by dialing the Federal Relay Service on (800) 877-8339 or (202) 708-1455. (Phone numbers, other than “800” TTY numbers, are not toll free).

SUPPLEMENTARY INFORMATION: HUD's authority for making funding available under this Notice is the Department of Housing and Urban Development Appropriations Act, 2010 (Pub. L. 111-117, approved December 16, 2009). The Homeless Families Small Grant Research Program is undertaken by HUD's research authority under the Transformation Initiative Fund. On January 3, 2011, a Notice of Public Interest for this program was posted on Grants.gov announcing the availability of $150,000 for the program; a technical correction posted January 31, 2011 increased the total available funds to $275,000. On April 8, 2011 a Notice requesting full proposals from selected applicants only was posted on Grants.gov. Applicants could request up to $75,000 for a three-year (36 months) grant performance period. Awards under this Notice will be made in the form of Cooperative Agreements. This program is administered by HUD's Office of Policy Development and Research, Division of Program Evaluation.

The Catalog of Federal Domestic Assistance number for this program is 14.525.

Dated: September 14, 2011.
Raphael W. Bostic,
Assistant Secretary for Policy Development and Research.

List of Awardees for Grant Assistance Under the Fiscal Year 2010 Transformation Initiative: Homeless Families Demonstration Small Grant Research Program

1. EveryoneHome, a project of the Tides Center. PO Box 29907, San Francisco, CA 94129-0907. Alameda County Expansion (ACE) Study: Public Service Involvement of Homeless Families. $75,000.00

2. Metropolitan Housing Coalition, Inc. PO Box 4533, Louisville, KY 40204-4533. The Impact of Various Housing and Service Interventions on Homeless Children's Educational Outcomes. $43,070.00.

3. University of Minnesota, 450 McNamara Alumni Center, 200 Oak Street, SE., Minneapolis, MN 55455. The Effects of Housing and Service Interventions on Academic Achievement and School Factors for Children Experiencing Homelessness. $75,000.00.

4. Cloudburst Consulting Group, Inc., 8100 Corporate Drive, Suite 320, Landover, MD 20785-2231. Homeless Families, Preschool Enrollment, and Housing Stability. $75,000.00.

[FR Doc. 2011-24292 Filed 9-21-11; 8:45 am]

BILLING CODE 4210-67-P